DEPARTMENT OF JUSTICE

Antitrust Division

Notice Pursuant to the National Cooperative Research and Production Act of 1993—Underwriters Laboratories Inc.

Notice is hereby given that, on September 16, 2004, pursuant to section 6(a) of the National Cooperative Research and Production Act of 1993, 15 U.S.C. 4301 et seq. (“the Act”), Underwriters Laboratories Inc. (“UL”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Underwriters Laboratories Inc., Northbrook, IL. The nature and scope of UL's standards development activities are: development of UL Standards of Safety, which incorporate safety requirements for evaluating equipment, materials, components, products, systems, or services and address safety issues related to fire, electric shock, personal injury, and, in certain cases, environmental and public health. UL is accredited by the American National Standards Institute to develop National Standards.

Dorothy B. Fountain,
Deputy Director of Operations, Antitrust Division.

[FR Doc. 05-5889 Filed 3-24-05; 8:45 am]

BILLING CODE 4410-11-M